DEPARTMENT OF ENERGY

Federal Energy Regulatory Commission

Combined Notice of Filings #1

Take notice that the Commission received the following electric corporate filings:

Docket Numbers: EC22-92-000.

Applicants: Top Hat Wind Energy LLC, Appalachian Power Company.

Description: Joint Application for Authorization Under Section 203 of the Federal Power Act of Top Hat Wind Energy LLC, et al.

Filed Date: 7/20/22.

Accession Number: 20220720-5203.

Comment Date: 5 p.m. ET 8/10/22

Take notice that the Commission received the following exempt wholesale generator filings:

Docket Numbers: EG22-178-000.

Applicants: Java Solar, LLC.

Description: Notice of Self-Certification of Exempt Wholesale Generator Status of Java Solar, LLC.

Filed Date: 7/20/22.

Accession Number: 20220720-5169.

Comment Date: 5 p.m. ET 8/10/22.

Docket Numbers: EG22-179-000.

Applicants: Limestone Wind Project, LLC.

Description: Notice of Self-Certification of Exempt Wholesale Generator Status of Limestone Wind Project, LLC.

Filed Date: 7/20/22.

Accession Number: 20220720-5171.

Comment Date: 5 p.m. ET 8/10/22

Take notice that the Commission received the following electric rate filings:

Docket Numbers: ER10-2374-016; ER17-2059-011.

Applicants: Puget Sound Energy, Inc., Puget Sound Energy, Inc.

Description: Errata to June 30, 2022 Triennial Market Power Analysis for the Northwest Region of Puget Sound Energy, Inc. under ER10-2374, et al.

Filed Date: 7/18/22.

Accession Number: 20220718-5223.

Comment Date: 5 p.m. ET 8/8/22.

Docket Numbers: ER21-1046-003.

Applicants: Sugar Creek Wind One LLC.

Description: Compliance filing: Sugar Creek Wind One, LLC-Compliance Filing (ER21-1046-) to be effective 5/1/2021.

Filed Date: 7/21/22.

Accession Number: 20220721-5098.

Comment Date: 5 p.m. ET 8/11/22.

Docket Numbers: ER22-1566-003.

Applicants: Guernsey Power Station LLC.

Description: Tariff Amendment: Response to Deficiency Notice to be effective 5/16/2022.

Filed Date: 7/21/22.

Accession Number: 20220721-5118.

Comment Date: 5 p.m. ET 8/11/22.

Docket Numbers: ER22-1702-001.

Applicants: Niagara Mohawk Power Corporation, New York Independent System Operator, Inc.

Description: Tariff Amendment: Niagara Mohawk Power Corporation submits tariff filing per 35.17(b): NMPC response to deficiency letter on April 28, 2022 filing of five SGIAs to be effective 4/1/2022.

Filed Date: 7/21/22.

Accession Number: 20220721-5030.

Comment Date: 5 p.m. ET 8/11/22.

Docket Numbers: ER22-1863-001.

Applicants: Arizona Public Service Company.

Description: Compliance filing: Order No. 881 Compliance Filing—Amendment 1 to be effective 5/13/2022.

Filed Date: 7/21/22.

Accession Number: 20220721-5083.

Comment Date: 5 p.m. ET 8/11/22.

Docket Numbers: ER22-2011-001; ER22-2007-000; ER22-2009-001.

Applicants: Duke Energy Progress, LLC, Duke Energy Florida, LLC, Duke Energy Progress, LLC, Duke Energy Carolinas, LLC, Duke Energy Carolinas, LLC.

Description: Duke Energy Carolinas, LLC, et. al. submit response to Deficiency Letter under ER22-2011, et. al.

Filed Date: 7/8/22.

Accession Number: 20220708-5173.

Comment Date: 5 p.m. ET 7/29/22.

Docket Numbers: ER22-2030-001.

Applicants: Sonoran West Solar Holdings, LLC.

Description: Tariff Amendment: Amendment to 1 to be effective 6/4/2022.

Filed Date: 7/21/22.

Accession Number: 20220721-5053.

Comment Date: 5 p.m. ET 8/11/22.

Docket Numbers: ER22-2031-002.

Applicants: Sonoran West Solar Holdings 2, LLC.

Description: Tariff Amendment: Amendment to 1 to be effective 6/4/2022.

Filed Date: 7/21/22.

Accession Number: 20220721-5054.

Comment Date: 5 p.m. ET 8/11/22.

Docket Numbers: ER22-2251-000.

Applicants: Tidal Energy Marketing (U.S.) L.L.C.

Description: Supplement to June 30, 2022 Tidal Energy Marketing (U.S.) L.L.C. tariff filing.

Filed Date: 7/19/22.

Accession Number: 20220719-5241.

Comment Date: 5 p.m. ET 8/2/22.

Docket Numbers: ER22-2380-000.

Applicants: Virginia Electric and Power Company d/b/a Dominion Energy Virginia.

Description: Dominion Energy Virginia Submits One-Time Limited Waiver Request of It's Formula Rate Protocols with Expedited Consideration.

Filed Date: 7/12/22.

Accession Number: 20220712-5232.

Comment Date: 5 p.m. ET 8/2/22.

Docket Numbers: ER22-2446-000.

Applicants: Public Service Company of New Mexico.

Description: § 205(d) Rate Filing: Modifications to NITSA/NOA Between PNM and TSGT to be effective 7/1/2022.

Filed Date: 7/20/22.

Accession Number: 20220720-5170.

Comment Date: 5 p.m. ET 8/10/22.

Docket Numbers: ER22-2447-000.

Applicants: PJM Interconnection, L.L.C.

Description: Tariff Amendment: Notice of Cancellation of WMPA, Service Agreement No. 6321; Queue No. AC2-050 to be effective 8/26/2022.

Filed Date: 7/21/22.

Accession Number: 20220721-5001.

Comment Date: 5 p.m. ET 8/11/22.

Docket Numbers: ER22-2448-000.

Applicants: Tri-State Generation and Transmission Association, Inc.

Description: § 205(d) Rate Filing: Amendment to Rate Schedule FERC No. 14 to be effective 8/22/2022.

Filed Date: 7/21/22.

Accession Number: 20220721-5031.

Comment Date: 5 p.m. ET 8/11/22.

Docket Numbers: ER22-2449-000.

Applicants: Southwest Power Pool, Inc.

Description: Request for Reliability Penalty Cost Recovery under OATT Attachment AP of Southwest Power Pool, Inc.

Filed Date: 7/20/22.

Accession Number: 20220720-5201.

Comment Date: 5 p.m. ET 8/10/22.

Docket Numbers: ER22-2450-000.

Applicants: Meadow Lake Solar Park LLC.

Description: Baseline eTariff Filing: Certificate of Concurrence to Shared Facilities Agreement to be effective 7/22/2022.

Filed Date: 7/21/22.

Accession Number: 20220721-5044.

Comment Date: 5 p.m. ET 8/11/22.

Docket Numbers: ER22-2451-000.

Applicants: Entergy Arkansas, LLC.

Description: Tariff Amendment: EAL Placeholder Tariff Record Cancellation to be effective 7/22/2022.

Filed Date: 7/21/22.

Accession Number: 20220721-5072.

Comment Date: 5 p.m. ET 8/11/22.

Docket Numbers: ER22-2452-000.

Applicants: Kentucky Utilities Company.

Description: § 205(d) Rate Filing: APCO Borderline Agreement Amended Appendix B to be effective 8/1/2022.

Filed Date: 7/21/22.

Accession Number: 20220721-5080.

Comment Date: 5 p.m. ET 8/11/22.

Docket Numbers: ER22-2453-000.

Applicants: PJM Interconnection, L.L.C.

Description: § 205(d) Rate Filing: Designated Entity Agreement, SA No. 6529 between PJM and PPL EU to be effective 6/24/2022.

Filed Date: 7/21/22.

Accession Number: 20220721-5084.

Comment Date: 5 p.m. ET 8/11/22.

Docket Numbers: ER22-2454-000.

Applicants: AEP Texas Inc.

Description: § 205(d) Rate Filing: AEPTX-Garcitas Creek Solar Generation Interconnection Agreement to be effective 6/30/2022.

Filed Date: 7/21/22.

Accession Number: 20220721-5104.

Comment Date: 5 p.m. ET 8/11/22.

Docket Numbers: ER22-2455-000.

Applicants: AEP Texas Inc.

Description: § 205(d) Rate Filing: AEPTX-LCRA TSC (Asphalt Mines) 1st A&R Facility Develop.m.ent Agreement to be effective 6/29/2022.

Filed Date: 7/21/22.

Accession Number: 20220721-5107.

Comment Date: 5 p.m. ET 8/11/22.

Docket Numbers: ER22-2456-000.

Applicants: Florida Power & Light Company.

Description: § 205(d) Rate Filing: FPL SA No. 400 Santa Rosa Generator Imbalance Service Agreement to be effective 12/31/9998.

Filed Date: 7/21/22.

Accession Number: 20220721-5111.

Comment Date: 5 p.m. ET 8/11/22.

Take notice that the Commission received the following public utility holding company filings:

Docket Numbers: PH22-18-000.

Applicants: Consumers Energy Company.

Description: CMS Energy Corporation submits FERC 65-B Notice of Exemption Notification.

Filed Date: 7/20/22.

Accession Number: 20220720-5200.

Comment Date: 5 p.m. ET 8/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2022.
Debbie-Anne A. Reese,
Deputy Secretary.

[FR Doc. 2022-16121 Filed 7-26-22; 8:45 am]

BILLING CODE 6717-01-P